AFRICAN DEVELOPMENT FOUNDATION

Sunshine Act Meeting; Board of Directors

TIME: 12 pm-4:30 pm.

PLACE: ADF Headquarters.

DATE: Wednesday, August 1, 2001.

STATUS: Open.

Agenda

12 pm-1 pm—Lunch

1 pm-1:30 pm—Chairman's Report

1:30 pm-3 pm—President's Report

3 pm-4:30 pm—Executive Session (Closed)

4:30 pm—Adjuornment

If you have any questions or comments, please direct them to Doris Martin, General Counsel, who can be reached at (202) 673-3916.

Doris Martin,
Acting President.

[FR Doc. 01-18835 Filed 7-24-01; 3:15 pm]

BILLING CODE 6117-01-M